DEPARTMENT OF ENERGY

Federal Energy Regulatory Commission

[Project No. 2210-169]

Appalachian Power Company, Virginia; Notice of Public Meeting for the Smith Mountain Pumped Storage Project Draft Environmental Impact Statement

April 14, 2009.

In accordance with the National Environmental Policy Act of 1969 and the Federal Energy Regulatory Commission's (Commission) regulations, 18 CFR Part 380 (Order No. 486, 52 FR 47897), the Office of Energy Projects has reviewed the application for license for the Smith Mountain Pumped Storage Project (FERC No. 2210), located on the headwaters of the Roanoke River in Bedford, Campbell, Franklin, and Pittsylvania counties in the Commonwealth of Virginia. Commission staff have prepared a draft Environmental Impact Statement (EIS) for the project, which was issued on March 27, 2009.

In addition to, or in lieu of, sending written comments, all interested individuals, organizations, and agencies are invited to attend a public meeting. The time and location of the meeting is as follows:

Date: Thursday, April 30, 2009.

Time: 7 p.m.-10 p.m.

Place: Franklin County High School (Auditorium).

Address: 700 Tanyard Road, Rocky Mount, VA 24151, (540) 483-0221; Attn: Mr. William Adkins.

Individuals, organizations, and agencies with environmental expertise and concerns are encouraged to attend the meeting and to discuss their comments on staff's recommendations included in the draft EIS. At this meeting, resource agency personnel and other interested persons will have the opportunity to provide oral and written comments and recommendations regarding the draft EIS. The meeting will be recorded by a court reporter, and all statements (verbal and written) will become part of the Commission's public record for the project. This meeting is posted on the Commission's calendar located at http://www.ferc.gov/EventCalendar/EventsList.aspx along with other related information.

Written comments should be filed with: Kimberly D. Bose, Secretary, Federal Energy Regulatory Commission, 888 First Street, NE., Washington, DC, 20426. All comments must be filed by May 11, 2009, and should reference Project No. 2210-169. Comments may be filed electronically via the Internet in lieu of paper. The Commission strongly encourages electronic filings. See 18 CFR 385.2001(a)(1)(iii) and instructions on the Commission's Web site at http://www.ferc.gov under the eLibrary link.

Copies of the draft EIS were distributed to the parties on the Commission's mailing list. Copies of the draft EIS will be available at the meeting. The draft EIS contains staff's evaluation of the applicant's proposal and the alternatives for relicensing the Smith Mountain Project. A copy of the draft EIS is also available for review in the Commission's Public Reference Branch, Room 2A, located at 888 First Street, NE., Washington, DC 20426. The draft EIS also may be viewed on the Commission's Web site at http://www.ferc.gov, using the eLibrary link. Enter the docket number, excluding the last three digits in the docket number field, to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Allan Creamer at (202) 502-8365, or by e-mail at allan.creamer@ferc.gov.

Kimberly D. Bose,
Secretary.

[FR Doc. E9-9082 Filed 4-20-09; 8:45 am]

BILLING CODE 6717-01-P